DEPARTMENT OF THE TREASURY

Office of the Comptroller of the Currency

Agency Information Collection Activities: Information Collection Renewal; Submission for OMB Review; Community Reinvestment Act Regulation

AGENCY: Office of the Comptroller of the Currency (OCC), Treasury.

ACTION: Notice and request for comment.

SUMMARY: The OCC, as part of its continuing effort to reduce paperwork and respondent burden, invites comment on a continuing information collection, as required by the Paperwork Reduction Act of 1995 (PRA). In accordance with the requirements of the PRA, the OCC may not conduct or sponsor, and the respondent is not required to respond to, an information collection unless it displays a currently valid Office of Management and Budget (OMB) control number. The OCC is soliciting comment concerning the renewal of its information collection titled, “Community Reinvestment Act Regulation.” The OCC also is giving notice that it has sent the collection to OMB for review.

DATES: Comments must be received by November 20, 2024.

ADDRESSES: Commenters are encouraged to submit comments by email, if possible. You may submit comments by any of the following methods:

• Email: prainfo@occ.treas.gov.

• Mail: Chief Counsel's Office, Attention: Comment Processing, Office of the Comptroller of the Currency, Attention: 1557-0357, 400 7th Street SW, Suite 3E-218, Washington, DC 20219.

• Hand Delivery/Courier: 400 7th Street SW, Suite 3E-218, Washington, DC 20219.

• Fax: (571) 293-4835.

Instructions: You must include “OCC” as the agency name and “1557-0357” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

Written comments and recommendations for the proposed information collection should also be sent within 30 days of publication of this notice to www.reginfo.gov/public/do/PRAMain. You can find this information collection by selecting “Currently under 30-day Review—Open for Public Comments” or by using the search function.

You may review comments and other related materials that pertain to this information collection following the close of the 30-day comment period for this notice by the method set forth in the next bullet.

• Viewing Comments Electronically: Go to www.reginfo.gov. Hover over the “Information Collection Review” tab and click on “Information Collection Review” from the drop-down menu. From the “Currently under Review” drop-down menu, select “Department of Treasury” and then click “submit.” This information collection can be located by searching OMB control number “1557-0357” or “Community Reinvestment Act Regulation.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

FOR FURTHER INFORMATION CONTACT: Shaquita Merritt, Clearance Officer, (202) 649-5490, Chief Counsel's Office, Office of the Comptroller of the Currency, 400 7th Street SW, Washington, DC 20219. If you are deaf, hard of hearing, or have a speech disability, please dial 7-1-1 to access telecommunications relay services.

SUPPLEMENTARY INFORMATION: Under the PRA (44 U.S.C. 3501 et seq.), Federal agencies must obtain approval from the OMB for each collection of information that they conduct or sponsor. “Collection of information” is defined in 44 U.S.C. 3502(3) and 5 CFR 1320.3(c) to include agency requests or requirements that members of the public submit reports, keep records, or provide information to a third party. The OCC asks the OMB to extend its approval of the collection in this notice.

Title: Community Reinvestment Act Regulation.

OMB Control No.: 1557-0357.

Type of Review: Regular.

Affected Public: Businesses or other for-profit.

Description: The CRA requires the Office of the Comptroller of the Currency, the Board of Governors of the Federal Reserve System, and the Federal Deposit Insurance Corporation (agencies) to assess the record of regulated financial institutions (institutions) in helping to meet the credit needs of their entire communities, including low- and moderate-income neighborhoods, consistent with safe and sound operations.¹ The CRA further requires the agencies to take this record into account in evaluating applications for mergers, branches, and certain other corporate activities.² The CRA statute requires the agencies to issue regulations to carry out its purposes.³

¹ 12 U.S.C. 2903(a)(1).

² See 12 U.S.C. 2903(a)(2).

³ 12 U.S.C. 2905.

The agencies use the data collected under the CRA regulations to fulfill their statutory obligations, including the assessment of each institution's record of helping to meet the credit needs of local communities. The agencies use the data to support their conclusions regarding an institution's record of performance, in assigning a CRA rating, and in preparing the public evaluations that the statute requires. Additionally, the agencies use these CRA assessments in evaluating an institution's applications for mergers, branches, and other corporate activities. The public uses the data to assess the institution's CRA performance and to participate meaningfully in the application process.

The scope of this information collection covers national banks, insured Federal branches and any Federal branch that is uninsured that results from an acquisition described in section 5(a)(8) of the International Banking Act of 1978 (12 U.S.C. 3103(a)(8)) (“banks”) and Federal savings associations (“savings associations).

Section-by-Section Analysis

• 12 CFR 25.25(b)—Requests for designation as a wholesale or limited purpose bank or savings association must be made in writing with the OCC at least three months prior to the proposed effective date of the designation.

• 12 CFR 25.27—Strategic plans must be submitted at least three months prior to proposed effective dates. Plans must include measurable goals and address all the applicable performance categories. Plans must include a description of informal efforts to solicit public suggestions, any written public comments received, and if revised pursuant to public comment, a copy of the initial plan. Amendments may be submitted in the case of a change in material circumstances.

• 12 CFR 25.42(a), 12 CFR 25.42(b)(1)—Large banks and savings associations ⁴ must collect and maintain certain small business/small farm loan data in a machine-readable form and large banks or savings associations that were not small banks or savings associations during the prior calendar year must report it annually.

⁴ Although the CRA regulations do not define “large banks and savings associations,” this term is used by the agencies to describe banks and savings associations that exceed the small bank or savings association asset size threshold in 12 CFR 25.12(u).

• 12 CFR 25.42(b)(2)—Large banks and savings associations, except those that were small banks or savings associations during the prior calendar year, must report annually in machine readable form the aggregate number and aggregate amount of community development loans originated or purchased.

• 12 CFR 25.42(b)(3)—Large banks and savings associations that are subject to reporting under 12 CFR 1003 (Home Mortgage Disclosure (Regulation C)), except those that were small banks or savings associations during the prior calendar year, must report the location of each home mortgage loan application, origination, or purchase outside the metropolitan statistical area(s) in which the bank or savings association has a home/branch office.

• 12 CFR 25.42(c)(1), 12 CFR 25.42(c)(2)—All banks and savings associations may collect and maintain in machine readable form certain data for consumer loans originated or purchased by a bank or savings association for consideration under the lending test. Other information may be included concerning their lending performance, including additional loan distribution data.

• 12 CFR 25.42(d)—Banks and savings associations that elect to have the OCC consider loans by an affiliate, for purposes of the lending or community development tests or an approved strategic plan, must collect, maintain, and report the data that the bank or savings association would have collected, maintained, and reported pursuant to 12 CFR 25.42(a)-(c), respectively, had the loans been originated or purchased by the bank or savings association. For home mortgage loans, the bank or savings association must also be prepared to identify the home mortgage loans reported under HMDA by the affiliate.

• 12 CFR 25.42(e)—Banks and savings associations that elect to have the OCC consider community development loans by a consortium or a third party, for purposes of the lending or community development tests or an approved strategic plan, must report for those loans the data that the bank or savings association would have reported under 12 CFR 25.42(b)(2), respectively, had the loans been originated or purchased by the bank or savings association.

• 12 CFR 25.42(f)—Small banks and savings associations that qualify for evaluation under the small bank and savings association performance standards but elect evaluation under the lending, investment, and service tests must collect, maintain, and report the data required for other banks or savings associations under 12 CFR 25.42(a) and 25.42(b).

• 12 CFR 25.42(g)—Banks and savings associations, except small banks or savings associations or those that were small banks or savings associations during the prior calendar year, must collect and report to the OCC by March 1 each year a list for each assessment area showing the geographies within the area.

• 12 CFR 25.43(a)—All banks and savings associations must maintain a public file that contains certain specified details: all written comments and responses; a copy of the public section of the bank's or savings association's most recent CRA performance evaluation; a list of the bank's or savings association's branches; a list of the branches opened or closed; a list of services offered; and a map of each assessment area delineated by the bank or savings association.

• 12 CFR 25.43(b)—Large banks and savings associations, except those that were small banks or savings associations during the prior calendar year, must include in their public files certain information pertaining to the institution and its affiliates, if applicable, for each of the prior two calendar years. If the bank or savings association has elected to have one or more categories of its consumer loans considered under the lending test, for each of these categories, they must include the number and amount of loans: to low-, moderate-, middle-, and upper-income individuals; located in low-, moderate-, middle-, and upper income census tracts; and located inside the bank's assessment area(s) and outside the bank's or savings association's assessment area(s); and their CRA Disclosure Statement. A bank or savings association required to report home mortgage loan data pursuant to 12 CFR part 1003 must include a written notice that the institution's HMDA Disclosure Statement may be obtained on the Consumer Financial Protection Bureau's (Bureau's) website. A bank or savings association that elected to have the OCC consider the mortgage lending of an affiliate must include the name of the affiliate and a written notice that the affiliate's HMDA Disclosure Statement may be obtained at the Bureau's website. A small bank or savings association or a bank or savings association that was a small bank or savings association during the prior calendar year must include: its loan-to-deposit ratio for each quarter of the prior calendar year and, at its option, additional data on its loan-to-deposit ratio; and the information required for other banks or savings associations by 12 CFR 24.43(b)(1), if it has elected to be evaluated under the lending, investment, and service tests. A bank or savings association that has been approved to be assessed under a strategic plan must include in its public file a copy of that plan. A bank or savings association that received a less than satisfactory rating during its most recent examination must include in its public file a description of its current efforts to improve its performance in helping to meet the credit needs of its entire community. The bank must update the description quarterly.

• 12 CFR 25.43(c)-(e)—A bank or savings association must make available to the public for inspection upon request and at no cost the information required in this section at the main office or branch as specified. Upon request, a bank or savings association must provide copies, either on paper or in another form acceptable to the person making the request, of the information in its public file. A bank or savings association must ensure that this information is current as of April 1 of each year.

Estimated Burden:

Estimated Frequency of Response: On occasion.

Estimated Number of Respondents: 1,247.⁵

⁵ The Estimated Number of Respondents and Estimated Total Annual Burden were updated to (1) include Federally insured branches, (2) confirm the use of up-to-date bank asset sizes, and (3) make other clarifying revisions to ensure accurate estimates.

Estimated Total Annual Burden: 148,298 hours.

Comments: On July 16, 2024, the OCC published a 60-day notice for this information collection, (89 FR 57992). No comments were received.

Comments continue to be invited on:

(a) Whether the collection of information is necessary for the proper performance of the functions of the OCC, including whether the information has practical utility;

(b) The accuracy of the OCC's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Patrick T. Tierney,
Assistant Director, Office of the Comptroller of the Currency.

[FR Doc. 2024-24194 Filed 10-18-24; 8:45 am]

BILLING CODE 4810-33-P